COMMODITY FUTURES TRADING COMMISSION

17 CFR Part 16

Account Ownership and Control Report; Notice of Public Meeting

AGENCY HOLDING THE MEETING: Commodity Futures Trading Commission (“Commission”).

DATE AND TIME: Thursday, September 16, 2010, commencing at 1 p.m. and ending at 4:30 p.m.

PLACE: Three Lafayette Centre, 1155 21st Street, NW., Washington, DC, Lobby Level Hearing Room (Room 1000).

STATUS: Open.

MATTERS TO BE CONSIDERED: Agenda: (1) Sources of Ownership and Control Report Data; and (2) Implementation of the Ownership and Control Report.

SUPPLEMENTARY INFORMATION: Notice is hereby given that Commission staff will hold a public roundtable meeting at which invited participants will discuss issues arising from the Commission's notice of proposed rulemaking that calls for the collection of ownership, control and related information for all trading accounts active on U.S. futures exchanges and other reporting entities.¹ Written comments on the proposed rule will be received until October 7, 2010. The meeting will be open to the public with seating on a first-come, first-served basis. Members of the public may also listen by telephone. Call-in participants should be prepared to provide their first name, last name, and affiliation. The information for the conference call is set forth below.

¹ 75 FR 41775 (July 19, 2010).

• U.S./Canada Toll-Free: (866) 312-4390

• International Toll: (404) 537-3379

• Conference ID: 94281936

Shortly after the public roundtable meeting, a transcript of the meeting will be published on the Commission's Account Ownership and Control Report public comment page at http://www.cftc.gov/LawRegulation/PublicComments/10-009.html.

CONTACT PERSONS AND ADDRESSES: Written comments should be sent to David Stawick, Secretary, Commodity Futures Trading Commission, Three Lafayette Centre, 1155 21st Street, NW., Washington, DC 20581. Comments may be submitted via e-mail at OCR@cftc.gov. “Account Ownership and Control Report” must be in the subject field of responses submitted via e-mail, and clearly indicated on written submissions. Comments may also be submitted by connecting to the Federal eRulemaking Portal at http://www.regulations.gov and following comment submission instructions. All comments must be submitted in English, or if not, must be accompanied by an English translation. For questions, please contact Sauntia Warfield, 202-418-5084.

Issued in Washington, DC, on September 1, 2010 by the Commission.
David A. Stawick,
Secretary of the Commission.

[FR Doc. 2010-22400 Filed 9-8-10; 8:45 am]

BILLING CODE P